DEPARTMENT OF TRANSPORTATION

Federal Aviation Administration

14 CFR Part 71

[Docket No. FAA-2010-0347; Airspace Docket No. 07-AWA-2 RIN 2120-AA66]

Proposed Modification of Class B Airspace; Chicago, IL

AGENCY: Federal Aviation Administration (FAA), DOT.

ACTION: Notice of proposed rulemaking (NPRM).

SUMMARY: This action proposes to modify the Chicago, IL, Class B airspace area by expanding the existing airspace to ensure containment of Instrument Flight Rules (IFR) aircraft conducting instrument approach procedures within Class B airspace, and segregating IFR aircraft at Chicago O'Hare International Airport (ORD) and Visual Flight Rules (VFR) aircraft operating in the vicinity of Chicago Class B airspace. Additional Class B airspace would support operations to ORD's triple parallel runways and three additional parallel runways planned for the near future. This action would enhance safety, improve the flow of air traffic, and reduce the potential for midair collision in the Chicago terminal area, further supporting the FAA's national airspace redesign goal of optimizing terminal and en route airspace areas to reduce aircraft delays and improve system capacity.

DATES: Comments must be received on or before July 13, 2010.

ADDRESSES: Send comments on this proposal to the United States (U.S.) Department of Transportation, Docket Operations, M-30, 1200 New Jersey Avenue, SE., West Building Ground Floor, Room W12-140, Washington, DC 20590-0001; telephone: (202) 366-9826. You must identify FAA Docket No. FAA-2010-0347 and Airspace Docket No. 07-AWA-2 at the beginning of your comments. You may also submit comments through the Internet at http://www.regulations.gov.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2010-0347 and Airspace Docket No. 07-AWA-2) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket Nos. FAA-2010-0347 and Airspace Docket No. 07-AWA-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9 a.m. and 5 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

In 1970, the FAA issued a final rule (35 FR 8880) which established the Chicago, Ill., Terminal Control Area to replace the Chicago, Ill., control zone. As a result of the Airspace Reclassification final rule (56 FR 65638), which became effective in 1993, the terms “terminal control area” and “airport radar service area” were replaced by “Class B airspace area,” and “Class C airspace area,” respectively. The primary purpose of a Class B airspace area is to reduce the potential for midair collisions in the airspace surrounding airports with high density air traffic operations by providing an area in which all aircraft are subject to certain operating rules and equipment requirements.

The present day Chicago Class B airspace has remained unchanged since being established in 1993 by the Airspace Reclassification final rule noted above. During that period, ORD has experienced increased traffic levels, a considerably different fleet mix, and airport infrastructure improvements enabling simultaneous instrument approach procedures to three parallel runways. For calendar year 2008, ORD was ranked number 2 in the list of the “50 Busiest FAA Airport Traffic Control Towers,” with 882,807 aircraft operations, and number 6 in the list of the “50 Busiest Radar Approach Control Facilities,” with 1,270,825 instrument operations. Additionally, the calendar year 2008 passenger enplanement data ranked ORD as number 2 among Commercial Service Airports with 33,683,991 passenger enplanements.

In recent years, the City of Chicago has undertaken construction projects to convert ORD to a primarily east/west operating airport. Ongoing construction projects include three additional parallel runways planned to supplement the existing three parallel Runways 9L/27R, 9R/27L, and 10/28. The FAA has determined that it is not possible to modify existing procedures to contain arrival aircraft conducting simultaneous instrument approaches to the existing parallel runways within the Chicago Class B airspace area. As the planned runways become operational and capacity increases, the number of aircraft exiting the Class B airspace will also increase.

With the current Class B airspace configuration, arriving aircraft routinely enter, exit, and then reenter Class B airspace while flying published instrument approach procedures, contrary to FAA directives. The procedural requirements for establishing aircraft on final to conduct simultaneous approaches to the three existing parallel runways has resulted in aircraft exceeding the lateral boundaries of the current Class B airspace by up to 5 to 10 miles during moderate levels of air traffic. Modeling of existing traffic flows has shown that the proposed expanded Class B airspace would enhance safety by containing all instrument approach procedures and associated traffic patterns within the confines of Class B airspace, support increased operations and capacity to the current and planned parallel runways, and better segregate the IFR aircraft arriving/departing ORD and VFR aircraft operating in the vicinity of the Chicago Class B airspace. The proposed Class B airspace modifications described in this NPRM are intended to address these issues.

Pre-NPRM Public Input

In 2007, the FAA initiated action to form an ad hoc committee to develop recommendations for the FAA to consider in designing a proposed modification of the Chicago Class B airspace area. Participants in the committee included representatives from the Illinois Department of Transportation, the City of Chicago, the Chicago Area Business Aviation Association, the Aircraft Owners and Pilots Association (AOPA), the National Business Aviation Association, Inc. (NBAA), the Cargo Airline Association (CAA), the Helicopter Association International (HAI), the United States Parachute Association (USPA), airline pilot groups, airlines, soaring clubs, and local area airports, pilots, and fixed base operators. Three ad-hoc committee meetings were held on December 18, 2007; January 31, 2008; and April 9, 2008.

As announced in the Federal Register (73 FR 44311 and 73 FR 51605), three informal airspace meetings were held; one each on September 23 and 25, 2008, at the Chicago Executive Airport, Wheeling, IL, and one on September 24, 2008, at the Chicago DuPage Airport, West Chicago, IL. Two additional informal airspace meetings were held, as announced in the Federal Register (73 FR 77867); one on February 23, 2009, at Lewis University, Romeoville, IL; and one on February 26, 2009, at Chicago DuPage Airport, West Chicago, IL, to ensure all interested airspace users were provided with an opportunity to present their views and offer suggestions regarding the planned modification of the Chicago Class B airspace area.

All substantive airspace recommendations made by the ad hoc committee and public comments received as a result of the informal airspace meetings were considered in developing this proposal.

Discussion of Recommendations and Comments

Ad hoc Committee Recommendations

The ad hoc committee recommended the FAA reduce the size of the original proposed Area E in order to provide general aviation and glider communities with additional airspace to operate within. (The original proposed Area E incorporated the airspace around the existing Class B airspace area out to 30 nautical miles of the Chicago O'Hare VHF omnidirectional range(VOR)/Distance Measuring Equipment (DME) antenna, extending upward from 4,000 feet mean sea level (MSL) to and including 10,000 feet MSL, excluding Areas A, B, C, and D.) Specifically, the committee recommended the airspace extension to the west be limited and designed to retain the existing Area F, extending upward from 4,000 feet MSL to 10,000 feet MSL, with the western boundary extended to a uniform 25 nautical mile arc of the Chicago O'Hare VOR/DME antenna. Additionally, the ad hoc committee recommended a new area be established to supplement Area F, extending upward from 5,000 feet MSL to 10,000 feet MSL, bordered on the east and west by the 25 nautical mile and 30 nautical mile arcs of the Chicago O'Hare VOR/DME antenna, respectively, and by a set of railroad tracks and the Aurora Airport Class D airspace on the north and south, respectively. The FAA partially adopted this recommendation. In lieu of modifying one area of the Chicago Class B airspace and establishing a second area, with a different altitude floor, to support the Class B airspace extension required to the west, the FAA designed one area by expanding the existing Area F and retaining the 4,000 feet MSL floor for the whole area. The expansion of Area F will be limited to (1) extending the western boundary of the current Area F to a uniform 25 nautical mile arc of the Chicago O'Hare VOR/DME antenna and (2) further extending the western boundary to include the airspace between the 25 nautical mile and 30 nautical mile arcs of the Chicago O'Hare VOR/DME antenna between a border defined from the intersection of Interstate 90 and the 25 nautical mile arc of the Chicago O'Hare VOR/DME antenna, then due west to lat. 42°07′21″ N., long. 88°33′05″ W., on the 30 nautical mile arc of the Chicago O'Hare VOR/DME antenna, to the north, and Illinois State Route 10, to the south. The FAA has determined that the need to descend aircraft low enough for an approach to all of the present and future runways, while maintaining 1,000 feet vertical separation between simultaneous arrivals and departures, requires that the lowest of the final approach courses be at 4,000 feet MSL between the 15 and 30 nautical mile arcs of the Chicago O'Hare VOR/DME antenna.

The ad hoc committee similarly recommended the FAA reduce the size of the original proposed Area E East of ORD and design the airspace extension as an area, extending upward from 5,000 feet MSL to 10,000 feet MSL, bordered by the 25 nautical mile and 30 nautical mile arcs of the Chicago O'Hare VOR/DME antenna between the 070° and 110° degree radials of the Chicago O'Hare VOR/DME antenna. The FAA partially adopted this recommendation. The proposed Class B airspace extension to the east (new Area E) is designed to include the airspace, extending upward from 4,000 feet MSL to 10,000 feet MSL, from the 25 nautical mile arc to the 30 nautical mile arc of the Chicago O'Hare VOR/DME antenna between latitude/longitude points that lay along Federal airways V-100/V-526, to the north, and latitude/longitude points that lay along Federal airways V-6/V-10, to the south. Again, the FAA determined that the need to descend aircraft low enough for an approach to all of the present and future runways, while maintaining 1,000 feet vertical separation between simultaneous arrivals and departures, requires that the lowest of the final approach courses be at 4,000 feet MSL between the 15 and 30 nautical mile arcs of the Chicago O'Hare VOR/DME antenna.

The ad hoc committee also recommended the FAA modify the existing Area G to accommodate aircraft flying the instrument landing system approach to Runway 16 and circling to Runway 34 at Chicago Executive Airport without having to enter the Chicago Class B airspace. Specifically, the committee recommended expanding Area G by moving the southern boundary from the 6 nautical mile arc of the Chicago O'Hare VOR/DME antenna to the 5 nautical mile arc, with the airspace segment extending upward from 2,500 feet MSL to 10,000 feet MSL. The FAA adopted this recommendation. The proposed modifications to Area A and Area G reflect this lateral boundary movement and the associated vertical airspace floor change from the existing surface to the recommended 2,500 feet MSL. These modifications will accommodate the traffic pattern and circling approach to Runway 34 at Chicago Executive Airport.

Finally, the ad hoc committee recommended the FAA not incorporate the airspace originally established to protect the, now-closed, Glenview Naval Air Station (currently Area E of the ORD Class B airspace area) into Area B of the original proposed Class B airspace modification. Inclusion of this airspace into Area B as originally proposed would lower the Class B airspace floor in that area from 2,500 feet MSL to 1,900 feet MSL. The FAA adopted this recommendation. The proposed Area H, described in the Proposal section, contains the airspace area boundary and altitude descriptions recommended by the ad hoc committee; thus, retaining the availability of the airspace below Area H from the surface to 2,500 feet MSL for VFR aircraft flying outside the ORD Class B airspace area.

The ad hoc committee included two additional recommendations in their report, one addressing discreet transponder codes for glider operations and a second addressing a future ad hoc committee being established when east-west runway construction projects are completed. These recommendations fall outside the scope of this airspace rulemaking action and accordingly, are not addressed in this rulemaking action.

Informal Airspace Meeting Comments

As a result of the informal airspace meetings, the FAA received written comments from 89 commenters. Three commenters concurred with the Chicago Class B airspace proposal as it was briefed at the informal airspace meetings. Four commenters shared that the proposed Class B airspace, in general, was too large and unnecessary. However, the majority of commenters focused their attention on the proposed Area F; although one commenter was in favor of the proposed Area F design.

Sixty-seven comments were received objecting to the amount of airspace to the west (Area F) that is included within the new Class B airspace proposal. Twenty-one commenters requested that the airspace to the west be reduced in size laterally and/or vertically. They specifically requested that Area F, proposed with a base altitude of 4,000 feet MSL, be raised to either 5,000 feet MSL or 6,000 feet MSL. The FAA has determined that this is not achievable. Aircraft conducting simultaneous parallel approaches may not be assigned the same altitude during turn-on to the final approach course. Air Traffic Control needs to turn aircraft on to instrument approaches at 6,000, 7,000, and 8,000 feet. It is not possible to turn aircraft on to approaches at 5,000 feet MSL because of satellite airport air traffic to the other 52 airports within the Chicago Terminal Radar Approach Control Facility (TRACON) airspace.

Twenty-three commenters expressed safety concerns due to traffic compression between gliders, as well as between gliders and general aviation aircraft. To remain clear of the Chicago Class B airspace VFR aircraft and gliders would have to fly at lower altitudes or fly further east or west of ORD. The FAA partially agrees. For general aviation and glider aircraft to remain clear of the Chicago Class B airspace areas, they would have to fly either below or above the Class B airspace extensions, or circumnavigate five to ten nautical miles further east or west of ORD. However, these areas are necessary to (1) retain IFR aircraft on instrument approaches and departures within the Chicago Class B airspace area; and (2) ensure general aviation and glider aircraft and the large turbine-powered aircraft conducting instrument approaches to Chicago O'Hare are segregated. Additionally, aircraft conducting simultaneous, triple parallel instrument and visual approaches to ORD may not be assigned the same altitude during turn-on to the final approach course, resulting in aircraft being assigned altitudes that will differ by a minimum of 1,000 feet. In order to contain these aircraft flying simultaneous instrument approaches within Class B airspace, and ensure segregation from general aviation traffic, the Chicago Class B airspace area must be modified to establish the additional extensions as proposed.

Three commenters contended that the amount of airspace proposed to be included in the Class B airspace to the west could be reduced through changes in procedures and airspace delegation between the Chicago TRACON and Chicago Air Route Traffic Control Center (ARTCC). They suggested that the Chicago ARTCC MALTS sector boundary be moved to the north; that the Rockford Federal airway V-100 traffic be moved to the north; and that the Plano arrivals be forced down to 10,000 feet MSL or lower when in an east flow. The FAA does not agree and has determined that changing procedures and/or airspace delegation would not solve the problem at hand. Implementation of these suggestions would not enable Chicago TRACON to contain aircraft within the boundaries of the present day Class B airspace, nor ensure segregation of IFR arrival aircraft with the VFR aircraft and gliders operating in the vicinity of the Chicago Class B airspace.

Fifty-nine commenters raised concerns for adverse impacts to glider operations, echoing similar issues to those mentioned above, as a result of the proposed Class B airspace modifications of Area F. The FAA partially agrees. The airspace where Area F is proposed to be established currently lies outside the existing boundary of the Chicago Class B airspace and it is understandable that users of that airspace view the necessary establishment of Class B airspace as an encroachment. However, in the interest of safety for all, the FAA has determined that the Class B airspace extension to the west of ORD is the only way to ensure IFR aircraft arriving and departing ORD are contained within Class B airspace and IFR aircraft are segregated from VFR aircraft and gliders, that may not be visible to or communicating with Air Traffic Control, that already are operating in that area. The proposed Area F Class B airspace extension has been limited in design to include only the volume of airspace necessary to contain IFR arrivals/departures at ORD, segregate IFR and VFR aircraft operations, and minimize impacts to general aviation and glider VFR operators. Additionally, the proposed Area F was designed to ensure it does not encompass or overlay the airfields where the Sky Soaring Glider Club (Hampshire, IL) and Windy City Soaring Association (Hinckley, IL) operations are located. The Chicago Glider Club (Minooka, IL) lies well south of any of the proposed Chicago Class B airspace.

Four commenters suggested that the western portion of the Class B airspace be delegated to gliders through Letter of Agreement/Letter of Authorization/Notice to Airmen when Air Traffic Control did not require it for their use. The FAA finds these suggestions untenable due to the regulatory nature of Class B airspace and the requirement for Air Traffic Control to provide positive separation within it. Class B airspace is established via rulemaking and when it is established, the airspace and regulatory requirements associated with accessing and operating within it are specific and in effect at all times. Class B airspace cannot be modified or delegated to the user community on an ad hoc basis. Additionally, the regulatory requirements for aircraft to enter and operate within Class B airspace may not be waived, modified, or exempted by Letter of Agreement.

Three commenters thought that the northern border of Area F should be moved south to the railroad tracks in the Hampshire, IL, area to establish a better visual reference of the Class B airspace for VFR aircraft. Another commenter thought that the northern border of the Area F extension should be moved to Illinois State Route 72 for a visual reference. The FAA finds both of these suggestions impractical. The resultant size of the Area F extension would be insufficient to safely ensure separation between aircraft flying in the runways 9L, 9R, and 10 traffic patterns and final approach course. Additionally, issues associated with an insufficient amount of airspace would only be compounded when the three additional planned parallel runways become operational.

One commenter cited noise and safety concerns for residents located below the proposed Area F to the west of ORD. The FAA does not agree. The proposed modifications to the Chicago Class B airspace will not change the location of existing flight tracks, use of altitudes, or the number of aircraft being vectored for approaches to ORD within the proposed Area F airspace today. Moreover, the FAA views the proposed Area F as critical to overcoming the safety ramifications associated with large turbojet aircraft exiting the Class B airspace, and consequently, intermingling with general aviation and glider aircraft not in contact with the Chicago TRACON.

Three commenters expressed support for establishing Global Positioning Satellite (GPS) guidance or VOR DME waypoints for VFR flyways underneath the Chicago Class B airspace. Specifically, one commenter requested that there be three north-south VFR routes west of ORD, a VFR route along the shoreline, east-west transitions both north and south of ORD, a VFR route around Chicago Executive Airport, and a route around Chicago Midway Airport. A second commenter expressed a need for a VFR flyway from Chicago Executive Airport/Lakeshore to south side airports in both directions. In response, the FAA offers that VFR flyways under and around the Class B airspace similar to the those addressed by the commenters already exist. The VFR flyways are published on the Chicago Charted VFR Flyway Planning Chart on the reverse side of the Chicago VFR Terminal Area Chart. The FAA does note, however, that the existing VFR flyways depicted on the Chicago Charted VFR Flyway Planning Chart will require minor adjustments in recommended altitudes to accommodate the proposed Class B airspace modifications.

One commenter recommended that a VFR flyway directly over the top of ORD running north/south at 8,000, 9,000, or 10,000 feet MSL using GPS or VOR/DME waypoints should be established. The FAA does not agree. On a daily basis, roughly 10 aircraft an hour for 13 to 15 hours a day (130 to 150 flights per day on average) are routed over the top of ORD at altitudes between 8,000 feet MSL and 11,000 feet MSL in order to utilize a preferred runway. The use of a preferred runway is normally based on the need for a longer runway, but can also be required for runway balancing. Additionally, departures at Chicago Midway International Airport (MDW) that are northbound transition over the top of ORD between 6,000 feet MSL and 11,000 feet MSL, climbing to 13,000 feet MSL, and departures at Aurora (ARR) and DuPage (DPA) Airports heading east and then northbound also transition through this same airspace. Aircraft at MDW, ARR, and DPA are typically corporate business jets and, depending on runway configuration(s) and destinations, account for an additional estimated 40 to 50 aircraft per day.

A number of comments were received regarding the proposed modification to the Class B airspace (Area E) to the east of ORD. Ten commenters felt the size of the proposed area to the east was excessive, not needed by the Chicago TRACON, and objected to this aspect of the proposal. Five other commenters specifically questioned the need for the additional airspace supporting Runway 22 operations; requesting the size of the area be reduced. The FAA agrees with these commenters. The original proposal for Area E incorporated the airspace east of ORD from the 25 nautical mile arc to the 30 nautical mile arc of the Chicago O'Hare VOR/DME antenna, extending upward from 4,000 feet MSL to and including 10,000 feet MSL, from the shoreline north of ORD to the shoreline southeast of ORD. The FAA has determined the size of Area E could be reduced to the dimensions listed in the Proposal section below.

Two commenters further stated that traffic landing on Runway 28 could be vectored on to the localizer at 4,000 feet MSL inside the 25 nautical mile arc of the Chicago O'Hare VOR/DME antenna, which would allow the floor of Area F to be raised between the 25 nautical mile and 30 nautical mile arcs. The FAA does not agree. There are simply too many aircraft to contain them all within the 25 nautical mile arc of the Chicago O'Hare VOR/DME antenna. Simply put, ORD and its associated operations has outgrown the present day Class B airspace established in 1993.

The FAA also received some general comments regarding the Chicago Class B airspace. Two commenters suggested lowering the ceiling of the Class B airspace, citing other Class B airspace areas in the country with lower ceilings. The FAA does not agree. Class B airspace designs are specific to locations based on varying local area operational requirements and aviation needs. To advocate one standard Class B airspace design for all major airports with high density air traffic operations does not recognize those differences in the local area operational requirements or aviation needs and could result in airspace being incorporated unnecessarily at some locations (impacting free navigable airspace) or not enough airspace being incorporated at other locations (causing unacceptable aviation safety risks). This suggestion also would not be suitable in Chicago's case as the higher altitudes of the Chicago Class B airspace are currently used to accommodate the large volume of aircraft arriving and departing the area.

Four commenters expressed concern that the proposal would increase the risk of Class B airspace violations. The FAA does not agree. The legal description of the proposed Class B airspace includes prominent visual references, latitude/longitude coordinates, and arcs of the Chicago O'Hare VOR/DME antenna. The FAA believes that this mix of descriptors effectively assists pilots in identifying the lateral boundaries of the Class B airspace.

Two commenters stated that the proposal would have an economic impact on general aviation traffic due to increased fuel burn. The FAA partially agrees with this comment. Although some aircraft would need to fly added distances or different altitudes to remain clear of the Class B airspace, the FAA believes any increase in fuel burn would be nominal.

Finally, two commenters thought that inadequate information was given to the ad hoc committee in order for them to accurately evaluate the proposal and recommended that the entire Class B process begin over again. They also requested that after all runway construction projects are completed at ORD, the ad hoc committee be reestablished. The FAA does not agree. Three ad hoc committee meetings were held to identify, discuss, and develop recommendations for the FAA to consider with respect to modifying the Chicago Class B airspace. The ad hoc committee provided the FAA a memorandum that addressed four specific recommendations for consideration in the development of the Chicago Class B airspace modification proposal, which are incorporated into the proposal. Additionally, five informal airspace meetings were held to inform interested aviation users of the proposed airspace changes and to gather facts and information relevant to the proposed action. Furthermore, this NPRM provides users with a 60-day comment period to submit comments or recommendations on the proposal. All comments received as a result of this NPRM will be fully considered, and may result in changes to the proposed action, before the FAA makes a final determination. The FAA believes that re-initiating the Class B process, after it has been in progress since December of 2008, would be to ignore the safety ramifications associated with the inability to contain large turbojet aircraft operations within the existing Chicago Class B airspace, and consequently, their intermingling with VFR aircraft that are not in contact with the Chicago TRACON.

The Proposal

The FAA is proposing an amendment to Title 14 of the Code of Federal Regulations (14 CFR) part 71 to modify the Chicago Class B airspace area. This action (depicted on the attached chart) is proposed to make minor modifications to the existing Chicago Class B airspace and to establish two new airspace extensions (the first, a new Area E, to the east and the second, expanding existing Area F, to the west) to the current Chicago Class B airspace area in order to provide airspace needed to contain aircraft conducting instrument and visual approach operations within the confines of Class B airspace. Additionally, the proposed modifications would better segregate the IFR aircraft arriving/departing ORD and the VFR aircraft operating in the vicinity of the Chicago Class B airspace. The current Chicago Class B airspace area consists of seven subareas (A through G) while the proposed configuration would consist of eight subareas (A through H). The proposed revisions to the Chicago Class B airspace area are discussed below.

Area A. The FAA proposes to modify the northern boundary of Area A by incorporating the airspace east of U.S. Highway 12 between the 6 nautical mile and 5 nautical mile arcs of the Chicago O'Hare VOR/DME antenna, from 2,500 feet MSL to and including 10,000 feet MSL, as part of Area G. The airspace east of U.S. Highway 12 between the 6 nautical mile and 5 nautical mile arcs of the Chicago O'Hare VOR/DME antenna, below 2,500 feet MSL, would be returned to the NAS. This modification of Area A, as described, would raise the floor of the Class B airspace in the affected segment from the surface to 2,500 feet MSL. This proposed modification, as recommended by the ad hoc committee and adopted by the FAA, would provide additional airspace to accommodate aircraft on the downwind traffic pattern and circling approaches to Runway 34 at Chicago Executive Airport, without entering Chicago Class B airspace.

Area B. The FAA proposes to modify Area B by defining its northeast boundary using the railroad tracks that run from U.S. Highway 294 to Willow Road (slightly east of the existing Area B, Area C, and current Area E shared boundary) and expanding Area B to incorporate a portion of existing Class B airspace that is contained in the current Area E. Specifically, the modification would expand Area B to incorporate the airspace contained east of the railroad tracks and south of Willow Road within the current Area E, and lower the floor of that affected airspace from the current 2,500 feet MSL to 1,900 feet MSL. This modification of Area B, as described, would raise the floor of the Class B airspace west of the railroad tracks to the existing shared boundary noted above to 3,000 feet MSL, but lower the floor of the Class B airspace in the affected segment of the current Area E by 600 feet to 1,900 feet MSL. This proposed modification of Area B would incorporate only that airspace deemed necessary from the current Area E to ensure IFR arrival aircraft flying instrument approaches to ORD Runway 22R are contained within the confines of Class B airspace throughout the approach, and ensure segregation of IFR arrival aircraft from VFR aircraft flying near the boundary of Class B airspace. Additionally, this proposed modification would better define the northeast boundary of Area B using visual references for pilots flying in the vicinity of Chicago Class B airspace.

Area C. Area C would expand into existing Class B airspace, incorporating portions of Area B and Area H commensurately. As proposed in Areas B and H, the new shared boundary would follow the railroad tracks that run northeast from U.S. Highway 294 to the 10 nautical mile arc of the Chicago O'Hare VOR/DME antenna. Other than re-defining the shared boundary of Areas B, C, and H using visual references for pilots flying in the vicinity of the Chicago Class B airspace, there is no effect to IFR or VFR aircraft operations from this resultant modification of existing Class B airspace.

Area D. The FAA is not proposing to modify Area D.

Area E. The FAA proposes to establish a new Area E to the east of ORD. This modification would extend Class B airspace from the existing Area D boundary defined by the 25 nautical mile arc of the Chicago O'Hare VOR/DME antenna to the 30 nautical arc of the Chicago O'Hare VOR/DME antenna. The northern boundary would be defined by latitude/longitude points that lay along Federal airways V-100/V-526, and the southern boundary would be defined by latitude/longitude points that lay along Federal airways V-6/V-10. This new area would extend upward from 4,000 feet MSL to and including a ceiling of 10,000 feet MSL, overlying Lake Michigan. The FAA has determined that the need to descend aircraft low enough for an approach to all present and future runways, while maintaining 1,000 feet vertical separation between simultaneous arrivals and departures, requires that the lowest of the final approach courses be at 4,000 feet MSL between the 15 and 30 nautical mile arcs of the Chicago O'Hare VOR/DME antennas. This new area would ensure IFR arrival aircraft flying simultaneous visual and instrument approaches to the existing runways 27R, 27L, and 28, as well as three additional parallel runways planned for the future, are contained within the confines of Class B airspace throughout the approach. This proposed new area would also ensure segregation of IFR aircraft arriving ORD and VFR aircraft operating in the vicinity of the Chicago Class B airspace, yet provide navigable airspace below and above Class B airspace for VFR aircraft.

Area F. The FAA proposes to expand Area F to the west of ORD. This proposed modification would (1) extend the western boundary of the current Area F to a uniform 25 nautical mile arc of the Chicago O'Hare VOR/DME antenna and (2) further extend the western boundary to include the airspace between the 25 nautical mile and 30 nautical mile arcs of the Chicago O'Hare VOR/DME antenna between a border defined from the intersection of Interstate 90 and the 25 nautical mile arc of the Chicago O'Hare VOR/DME antenna, then due west to lat. 42°07′21″N., long. 88°33′05″W., on the 30 nautical mile arc of the Chicago O'Hare VOR/DME antenna, to the north, and Illinois State Route 10, to the south. This new Area F would be established with the floor extending upward from 4,000 feet MSL to and including 10,000 feet MSL. The FAA has determined that the need to descend aircraft low enough for an approach to all of the present and future runways, while maintaining 1,000 feet vertical separation between simultaneous arrivals and departures, requires that the lowest of the final approach courses be at 4,000 feet MSL between the 15 and 30 nautical mile arcs of the Chicago O'Hare VOR/DME antenna. This new area would ensure IFR arrival aircraft flying simultaneous visual and instrument approaches to the existing Runways 9L, 9R, and 10, as well as three additional parallel runways planned for the future, are contained within the confines of Class B airspace throughout the approach. This proposed new area would also ensure segregation of IFR aircraft arriving ORD and VFR aircraft and gliders operating in the vicinity of the Chicago Class B airspace, yet provide navigable airspace below and above Class B airspace for VFR aircraft operations.

Area G. The FAA proposes to modify the southern boundary of Area G by incorporating the airspace contained in Area A that lies east of U.S. Highway 12 between the 6 nautical mile and 5 nautical mile arcs of the Chicago O'Hare VOR/DME antenna, extending upward from 2,500 feet MSL to and including 10,000 feet MSL. The modification of Area G, as described, would raise the floor of Class B airspace in the affected segment from the surface to 2,500 feet MSL. This proposed modification, as recommended by the ad hoc committee and adopted by the FAA, would provide additional airspace to accommodate aircraft on the downwind traffic pattern and circling approaches to Runway 34 at Chicago Executive Airport, without entering the Chicago Class B airspace.

Area H. The FAA proposes to establish Area H from the existing northern portion of the current Area E. The proposed Area H would be bordered by the 10 nautical mile arc of the Chicago O'Hare VOR/DME antenna on the east, Willow Road on the south, and the railroad tracks (located slightly east of the existing Area B, Area C, and Area E shared boundary) that run from U.S. Highway 294 to the 10 nautical mile arc of the Chicago O'Hare VOR/DME antenna on the west. This new area would be established with the floor extending upward from 2,500 feet MSL to and including 10,000 feet MSL.

These modifications to the Chicago Class B airspace are being proposed to ensure the containment of IFR aircraft operations within Class B airspace as required by FAA directives, the segregation of IFR aircraft arriving/departing ORD and VFR aircraft operating in the vicinity of the Chicago Class B airspace, and support the aircraft arrival/departure operations of three parallel runways, planned to be expanded to six parallel runways, performing simultaneous visual and instrument approaches.

Class B airspace areas are published in paragraph 3000 of FAA Order 7400.9T, Airspace Designations and Reporting Points, dated August 27, 2009, and effective September 15, 2009, which is incorporated by reference in 14 CFR section 71.1. The Class B airspace area listed in this document would be published subsequently in the Order.

Regulatory Evaluation Summary

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of United States standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this proposed rule. The reasoning for this determination follows:

This proposed rule would enhance safety by containing all instrument approach procedures and associated traffic patters within the confines of Class B airspace. The requirements would support increased operations and capacity to the current and planned parallel runways while better segregating IRF aircraft that would be operating in the affected airspace.

After consultation with a diverse cross-section of stakeholders that participated in the ad hoc committee to develop the recommendations contained in this proposal, and a review of the recommendations and comments, the FAA expects that this proposed rule would result in minimal cost. We are aware that the proposal might require small adjustments to existing VFR flyway planning charts, but the additional cost would be minimal. Also, the proposed rule could also have an affect on general aviation due to increased fuel consumption from flying different distances or altitudes to remain safely outside of Class B airspace. Although we expect operators might consume more fuel on some flights, we estimate the additional fuel cost would be minimal.

Initial Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The FAA believes the proposal would not have a significant economic impact on a substantial number of small entities as the economic impact is expected to be minimal. We request comments from the potentially affected small businesses.

Therefore, the FAA certifies that this proposed rule would not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for United States standards. The FAA has assessed the potential effect of this proposed rule and determined that it would enhance safety and is not considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This proposed rule does not contain such a mandate; therefore, the requirements of Title II of the Act do not apply.

Paperwork Reduction Act

The Paperwork Reduction Act of 1995 (44 U.S.C. 3507(d)) requires that the FAA consider the impact of paperwork and other information collection burdens imposed on the public. We have determined that there is no new information collection requirement associated with this proposed rule.

Conclusion

This NPRM would enhance safety, reduce the potential for a midair collision in the Chicago terminal area, and would improve the flow of air traffic. As such, we estimate a minimal impact with substantial positive net benefits. The FAA requests comments with supporting justification about the FAA determination of minimal impact. FAA has, therefore, determined that this proposed rule is not a “significant regulatory action” as defined in section 3(f) of Executive Order 12866, and is not “significant” as defined in DOT’s Regulatory Policies and Procedures.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9T, Airspace Designations and Reporting Points, dated August 27, 2009, and effective September 15, 2009, is amended as follows:

Paragraph 3000 Subpart B-Class B Airspace

* * * * *

AGL IL B Chicago, IL [Modified]

Chicago O’Hare International Airport (Primary Airport)

(Lat. 41°58′46″ N., long. 87°54′16″ W.)

Chicago Midway Airport

(Lat. 41°47′10″ N., long. 87°45′08″ W.)

Chicago O’Hare VOR/DME

(Lat. 41°59′16″ N., long. 87°54′17″ W.)

Boundaries.

Area A. That airspace extending upward from the surface to and including 10,000 feet MSL within an area bounded by a line beginning at lat. 42°04′10″ N., long. 87°55′31″ W.; thence clockwise along the 5 nautical mile arc of the Chicago O’Hare VOR/DME to lat. 41°59′15″ N., long. 87°47′35″ W.; thence east to lat. 41°59′15″ N., long. 87°46′15″ W.; thence clockwise along the 6 nautical mile arc of the Chicago O’Hare VOR/DME to Interstate Highway 290 (lat. 41°57′12″ N., long. 88°01′ 56″ W.); thence north along Interstate Highway 290 to the 6 nautical mile arc of the Chicago O’Hare VOR/DME (lat. 42°01′20″ N., long. 88°01′51″ W.); thence clockwise along the 6 nautical mile arc of the Chicago O’Hare VOR/DME to U.S. Highway 12 (lat. 42°05′03″ N., long. 87°56′26″ W.); thence southeast along U.S. Highway 12 to the point of beginning.

Area B. That airspace extending upward from 1,900 feet MSL to and including 10,000 feet MSL within an area bounded by a line beginning at the intersection of U.S. Highway 294 and railroad tracks at lat. 42°03′48″ N., long. 87°52′03″ W.; thence northeast along the railroad tracks to Willow Road (lat. 42°06′20″ N., long. 87°49′38″ W.); thence east along Willow Road to the 10 nautical mile arc of the Chicago O'Hare VOR/DME (lat. 42°06′04″ N., long. 87°44′28″ W.); thence clockwise along the 10 nautical mile arc of the Chicago O'Hare VOR/DME to the 5 nautical mile radius of Chicago Midway Airport (lat. 41°49′34″ N., long. 87°51′00″ W.); thence counterclockwise along the 5 nautical mile radius of the Chicago Midway Airport to the 10.5 nautical mile arc of the Chicago O'Hare VOR/DME (lat. 41°48′59″ N., long. 87°51′22″ W.); thence clockwise along the 10.5 nautical mile arc of the Chicago O'Hare VOR/DME to the 10 nautical mile radius of the Chicago Midway Airport (lat. 41°49′11″ N., long. 87°58′14″ W.); thence clockwise along the 10 nautical mile radius of Chicago Midway Airport to the 10 nautical mile arc of the Chicago O'Hare VOR/DME (lat. 41°49′40″ N., long. 87°58′05″ W.); thence clockwise along the 10 nautical mile arc of the Chicago O'Hare VOR/DME to U.S. Highway 12 (lat. 42°08′02″ N., long. 88°00′44″ W.); thence southeast along U.S. Highway 12 to the 5 mile arc of the Chicago O'Hare VOR/DME (lat. 42°04′10″ N., long. 87°55′31″ W.); thence clockwise along the 5 nautical mile arc of the Chicago O'Hare VOR/DME to the point of beginning, excluding that airspace designated as Area A.

Area C. That airspace extending upward from 3,000 feet MSL to and including 10,000 feet MSL within an area bounded by the 15 nautical mile arc of the Chicago O'Hare VOR/DME, excluding that airspace designated as Area A, Area B, Area G, and Area H.

Area D. That airspace extending upward from 3,600 feet MSL to and including 10,000 feet MSL within an area bounded by a line beginning at lat. 42°07′52″ N., long. 88°10′47″ W.; thence northwest to the 25 nautical mile arc of the Chicago O'Hare VOR/DME (lat. 42°15′40″ N., long. 88°19′39″ W.); thence clockwise along the 25 nautical mile arc of the Chicago O'Hare VOR/DME to lat. 41°42′03″ N., long. 88°18′34″ W.; thence northeast to the 15 nautical mile arc of the Chicago O'Hare VOR/DME (lat. 41°49′53″ N., long. 88°09′59″ W.); thence clockwise along the 15 nautical mile arc of the Chicago O'Hare VOR/DME to the point of beginning, excluding that airspace designated as Area A, Area B, Area C, Area G, and Area H.

Area E. That airspace extending upward from 4,000 feet MSL to and including 10,000 feet MSL within an area bounded by a line beginning at lat. 42°11′11″ N., long. 87°24′46″ W.; thence east to the 30 nautical mile arc of the Chicago O'Hare VOR/DME (lat. 42°10′39″ N., long. 87°17′01″ W.); thence clockwise along the 30 nautical mile arc of the Chicago O'Hare VOR/DME to lat. 41°46′38″ N., long. 87°17′51″ W.; thence west to the 25 nautical mile arc of the Chicago O'Hare VOR/DME (lat. 41°46′40″ N., long. 87°25′22″ W.); thence counterclockwise along the 25 nautical mile arc of the Chicago O'Hare VOR/DME to the point of beginning.

Area F. That airspace extending upward from 4,000 feet MSL to and including 10,000 feet MSL within an area bounded by a line beginning at lat. 42°07′52″ N., long. 88°10′47″ W.; thence northwest to the 25 nautical mile arc of the Chicago O'Hare VOR/DME (lat. 42°15′40″ N., long. 88°19′39″ W.); thence counterclockwise along the 25 nautical mile arc of the Chicago O'Hare VOR/DME to Interstate 90 (lat. 42°07′22″ N., long. 88°26′01″ W.); thence west to the 30 nautical mile arc of the Chicago O'Hare VOR/DME (lat. 42°07′21″ N., long. 88°33′05″ W.); thence counterclockwise along the 30 nautical mile arc of the Chicago O'Hare VOR/DME to Illinois State Route 10 (lat. 41°49′49″ N., long. 88°32′27″ W.); thence east along Illinois State Route 10 to the 25 nautical mile arc of the Chicago O'Hare VOR/DME (lat. 41°50′40″ N., long. 88°25′44″ W.); thence counterclockwise along the 25 nautical mile arc of the Chicago O'Hare VOR/DME to lat. 41°42′03″ N., long. 88°18′34″ W.; thence northeast to the 15 nautical mile arc of the Chicago O'Hare VOR/DME (lat. 41°49′53″ N., long. 88°09′59″ W.); thence clockwise along the 15 nautical mile arc of the Chicago O'Hare VOR/DME to the point of beginning.

Area G. That airspace extending upward from 2,500 feet MSL to and including 10,000 feet MSL within an area bounded by a line beginning at lat. 42°04′14″ N., long. 87°54′56″ W.; thence northwest to the 10 nautical mile arc of the Chicago O'Hare VOR/DME (lat. 42°09′00″ N., long. 87°57′22″ W.); thence counterclockwise along the 10 nautical mile arc of the Chicago O'Hare VOR/DME to U.S. Highway 12 (lat. 42°08′02″ N., long. 88°00′44″ W.); thence southeast along U.S. Highway 12 to the 5 nautical mile arc of the Chicago O'Hare VOR/DME (lat. 42°04′10″ N., long. 87°55′31″ W.); thence clockwise along the 5 nautical mile arc of the Chicago O'Hare VOR/DME to the point of beginning.

Area H. That airspace extending upward from 2,500 feet MSL to and including 10,000 feet MSL within an area bounded by a line beginning at the intersection of Willow Road and railroad tracks at lat. 42°06′20″ N., long. 87°49′38″ W.; thence northeast along the railroad tracks to the 10 nautical mile arc of the Chicago O'Hare VOR/DME (lat. 42°08′06″ N., long. 87°48′02″ W.); thence clockwise along the 10 nautical mile arc of the Chicago O'Hare VOR/DME to Willow Road (lat. 42°06′04″ N., long. 87°44′28″ W.); thence west along Willow Road to the point of beginning.

Issued in Washington, DC, on May 6, 2010.
Edith V. Parish,
Manager, Airspace and Rules Group.

BILLING CODE P

[FR Doc. 2010-11499 Filed 5-13-10; 8:45 am]

BILLING CODE C